DEPARTMENT OF COMMERCE

Submission for OMB Review; Comment Request

The Department of Commerce (DOC) has submitted to the Office of Management and Budget (OMB) for clearance the following proposal for the collection of information under the provisions of the Paperwork Reduction Act (44 U.S.C. Chapter 35).

Agency: National Telecommunications and Information Administration (NTIA).

Title: Public Telecommunications Facilities Program (PTFP).

Agency Form Number: None.

OMB Approval Number: 0660-0001.

Type of Request: Extension of a currently approved collection.

Burden Hours: 7,836 per year.

Number of Respondents: 1,966 per year.

Average Hours per Response: NTIA estimates that it takes an average of 39 hours a year to gather the information, complete the reports, and submit them to NTIA/PTFP.

Needs and Uses: Construction schedules/planning timetables are obtained to ensure the ability of NTIA/PTFP to monitor a project through quarterly performance reports, which alert NTIA/PTFP if the project is falling behind in its completion. Close-out reports enable the agency to be sure that Federal funds were expended in accordance with the grant award. Annual reports enable the agency to be sure that the Federal interest is maintained and protected for the statutorily specified 10-year period.

Affected Public: Not-for-profit institutions; state, local, or tribal governments.

Frequency: Varies—some on occasion, some quarterly, some annually.

Respondent's Obligation: Required to retain benefits.

OMB Desk Officer: David Rostker, (202) 395-3897.

Copies of the above information collection proposal can be obtained by calling or writing Linda Engelmeier, Departmental Forms Clearance Officer, (202) 482-3272, Office of the Chief Information Officer, Department of Commerce, Room 5027, 1401 Constitution Avenue, NW, Washington, DC 20230 (or via the Internet at lengelme@doc.gov).

Written comments and recommendations for the proposed information collection should be sent within 30 days of publication to David Rostker, OMB Desk Officer, Room 10202, New Executive Office Building, 725 17th Street, NW, Washington, DC 20503.

Dated: April 13, 2000.
Linda Engelmeier,
Departmental Forms Clearance Officer, Office of the Chief Information Officer.

[FR Doc. 00-9780 Filed 4-18-00; 8:45 am]

BILLING CODE 3510-60-P